DEPARTMENT OF THE INTERIOR

Fish and Wildlife Service

50 CFR Part 13

[Docket No. FWS-R9-MB-2011-0094; FF09M20300-167-FXMB123109EAGLE]

RIN 1018-AY30

Eagle Permits; Revisions to Regulations for Eagle Incidental Take and Take of Eagle Nests; Correction

AGENCY: Fish and Wildlife Service, Interior.

ACTION: Correcting amendments.

SUMMARY: We, the U.S. Fish and Wildlife Service, published a final rule to revise our regulations regarding permits that we issue for certain activities involving eagles. In that final rule, we revised the permit application fees for certain eagle permits. These permits are included in a table of permit application fees for numerous Service programs. Because of a formatting error in the rule, the revisions to the fee table were not incorporated into the Code of Federal Regulations (CFR) as intended. With this document, we correct the formatting error to properly reflect current application fees for eagle permits in the CFR and also remove two entries in the fee table pertaining to permits that no longer exist. This rule is purely an administrative action and does not affect the provisions of the original rule in any substantive way.

DATES: This correction is effective August 30, 2017.

FOR FURTHER INFORMATION CONTACT: Susan Wilkinson, Division of Policy, Performance, and Management Programs; 703-358-2506.

SUPPLEMENTARY INFORMATION:

Background

On December 16, 2016, the U.S. Fish and Wildlife Service published a final rule (81 FR 91494) to revise the regulations in title 50 of the Code of Federal Regulations (CFR) authorizing certain activities involving eagles. These regulations are in parts 13 and 22 of title 50. While the majority of the changes in the rule were to the regulations in part 22, we also revised application fees associated with some part 22 eagle permits and the administration fee for eagle permits over 5 years and incorporated those changes into the permit fee table at 50 CFR 13.11(d)(4), which sets forth user fees for permits issued by several Service programs.

The amendatory instruction that published in that final rule to revise the table in 50 CFR 13.11(d)(4) would have reduced the number of columns in the table from five to four. Because one column (the “Administration fee” column) had an entry for only one type of permit, we intended to remove that column and insert the information regarding the administration fee for that permit as a footnote to the table. While the Office of the Federal Register (OFR) allowed the final rule to be published with that instruction, upon reviewing the rule for codification into the Code of Federal Regulations, OFR decided that the amendatory instruction removing the Administration fee column was inappropriate. Instead of revising the table as we intended, OFR left the table unchanged and instead included this footnote to the table in 50 CFR 13.11(d)(4): “Editorial Note: At 81 FR 91549, Dec. 16, 2016, § 13.11 was amended; however, the amendment could not be incorporated due to inaccurate amendatory instruction.”

This rule corrects the amendatory instruction in the December 16, 2016, final rule (81 FR 91494), so that the CFR properly incorporates all the revisions made by that rule.

We are also taking this opportunity to correct two longstanding errors in the table at § 13.11(d)(4). In the section “Migratory Bird Treaty Act” is an entry for “Falconry,” and in the section “Bald and Golden Eagle Protection Act” is an entry for “Eagle falconry.” We are removing both of these entries from the table as they remain there in error: They should have been removed via a former rulemaking action. On October 8, 2008, we published a final rule (73 FR 59448) that revised the regulations pertaining to falconry. In that rule, we stated that Federal permitting for falconry would cease as of January 1, 2014, and, as of that date, States, territories, and Tribes would be responsible for issuing falconry permits. The rule revised pertinent sections of 50 CFR parts 21 and 22 but failed to make the necessary corresponding changes to the fee table in part 13. Accordingly, since we no longer issue Federal permits for falconry, we hereby remove two entries regarding application fees for falconry permits from the table in § 13.11(d)(4).

Authority: We issue this final rule under the authority of the Bald and Golden Eagle Protection Act (16 U.S.C. 668-668d).

List of Subjects in 50 CFR Part 13

Administrative practice and procedure, Exports, Fish, Imports, Plants, Reporting and recordkeeping requirements, Transportation, Wildlife.

Regulation Promulgation

For the reasons described in the preamble, we hereby amend subchapter B of chapter I, title 50 of the Code of Federal Regulations, as set forth below:

PART 13—GENERAL PERMIT PROCEDURES

1. The authority citation for part 13 continues to read as follows:

Authority: 16 U.S.C. 668a, 704, 712, 742j-l, 1374(g), 1382, 1538(d), 1539, 1540(f), 3374, 4901-4916; 18 U.S.C. 42; 19 U.S.C. 1202; 31 U.S.C. 9701.

2. Amend the table in § 13.11(d)(4) by:

a. Removing the entry “Falconry” under the section “Migratory Bird Treaty Act”; and

b. Revising the section “Bald and Golden Eagle Protection Act” and footnote 1 to read as follows:

§ 13.11 Application procedures.

* * * * *

(d) * * *

(4) * * *

Type of permit | CFR citation | Permit application fee | Administration fee ¹ | Amendment fee
* * * * * * *
Bald and Golden Eagle Protection Act
Eagle Scientific Collecting | 50 CFR part 22 | 100 |  | 50
Eagle Exhibition | 50 CFR part 22 | 75 |  |
Eagle—Native American Religion | 50 CFR part 22 | No fee |  |
Eagle Take permits—Depredation and Protection of Health and Safety | 50 CFR part 22 | 100 |  |
Golden Eagle Nest Take | 50 CFR part 22 | 100 |  | 50
Eagle Transport—Scientific or Exhibition | 50 CFR part 22 | 75 |  |
Eagle Transport—Native American Religious Purposes | 50 CFR part 22 | No fee |  |
Eagle Incidental Take—Up to 5 years, Commercial | 50 CFR part 22 | 2,500 |  | 500
Eagle Incidental Take—Non-commercial | 50 CFR part 22 | 500 |  | 150
Eagle Incidental Take—5-30 years | 50 CFR part 22 | 36,000 | ¹ 8,000 |
Eagle Incidental Take—Transfer of a permit | 50 CFR part 22 | 1,000 |  |
Eagle Nest Take—Single nest, Commercial | 50 CFR part 22 | 2,500 |  | 500
Eagle Nest Take—Single nest, Non-commercial | 50 CFR part 22 | 500 |  | 150
Eagle Nest Take—Multiple nests | 50 CFR part 22 | 5,000 |  | 500
Eagle Take—Exempted under ESA | 50 CFR part 22 | No fee |  |
* * * * * * *
¹ An additional Administration Fee of $8,000 will be assessed every 5 years for permits with durations longer than 5 years for permit review.

* * * * *

Dated: August 25, 2017.
Tina A. Campbell,
Chief, Division of Policy, Performance, and Management Programs, U.S. Fish and Wildlife Service.

[FR Doc. 2017-18414 Filed 8-29-17; 8:45 am]

BILLING CODE 4333-15-P